DEPARTMENT OF COMMERCE

Foreign-Trade Zones Board

[B-41-2013]

Foreign-Trade Zone (FTZ) 75—Phoenix, Arizona; Notification of Proposed Production Activity; Honeywell Aerospace, Inc., (Aircraft Engines, Systems and Components), Phoenix and Tempe, Arizona

The City of Phoenix, grantee of FTZ 75, submitted a notification of proposed production activity to the FTZ Board on behalf of Honeywell Aerospace, Inc (Honeywell), located in Phoenix and Tempe, Arizona. The notification conforming to the requirements of the regulations of the FTZ Board (15 CFR 400.22) was received on May 3, 2013.

The Honeywell facilities are located within Subzone 75J. The facilities are used for the production of aircraft engines, systems and components. Pursuant to 15 CFR 400.14(b), FTZ activity would be limited to the specific foreign-status materials and components and specific finished products described in the submitted notification (as described below) and subsequently authorized by the FTZ Board.

Production under FTZ procedures could exempt Honeywell from customs duty payments on the foreign status components used in export production. On its domestic sales, Honeywell would be able to choose the duty rates during customs entry procedures that apply to: Turbofan engines; turbo-propeller engines; turbo-shaft engines; auxiliary power units; rotor assemblies; tube assemblies; hydraulic actuators; air-turbine starters; wheel turbines; air-turbine pump systems; duct temperature limiters; air/oil heat exchangers; oil cooler fans; fuel filter assemblies; shutoffs and regulators valves; dual 3-way valves; check valves; pneumatic overpressure outline valves; regulating and shutoff pressure valves; center-drive units; shaft assemblies; bearing housings; gearbox assemblies; shaft couplings; spur gears; tertiary outline locks; power supplies; outline brake modules; data transmitters; XM receivers; XM antennas; head-up displays and components; electrical control panels; EPROMS; microcircuits; air-data transducers; axles with wheel and brake assemblies; aeronautical instruments; duct temperature sensors; flow-sensing modules; air/outflow-sensing modules; air-data modules; thermo switches; and, temperature control valves (duty rate free—3.30%) for the foreign status inputs noted below. Customs duties also could possibly be deferred or reduced on foreign status production equipment.

The components and materials sourced from abroad include: Unwrought titanium alloy; Kevlar-woven fabric; sample oil; scandium oxide; silicon nitride; turbine oil; varnish; X-ray films; guide springs; plastic tubes; plastic hose assemblies; plastic markers; plastic hose ducts; decals; tape; foam strips; ignition-exciter spacers and insulators; shielding bags; plastic caps; plastic thrust washers; rubber inserts; rubber tooth belts; pre-formed rubber gaskets; rubber tips; pine shipping guards; wood boards; corrugated packing boxes; logbooks; technical manuals; spinner decals; air diaphragms; duct gaskets; grinding wheels and tooling; asbestos gaskets; carbon washers; carbon seals; thermal carbon-fiber insulation blankets; ceramic turbine blisks; sight glasses; glass tubes; insulation and fire-protection shields; fiberglass covers and blankets; iron or steel angles; exhaust ducks; pneumatic tubes; metal tube actuators; double-ended union tubes; adaptor valve assemblies; flared union tubes; union assemblies; spherical-end adaptors; engine oil tanks; cable lifts; cable assemblies; chain assemblies; screws; double-hex bolts; threaded covers; turnbuckles; springs; thrust washers; rivets; retaining springs; tube sleeves; leaf springs; drain springs; torsion rods; forgings; wire clips; tube nipple assemblies; balancing wire; jumper-cable assemblies; seals; floating nuts; stiffener bars; nickel alloy bars; tubes and pipe fittings; straight-headed pins; test blocks; protective shipping devices; high voltage covers; gear plates; plates; XFR tubes; tubes; flow restrictor plugs; inserts; rig-pin brackets; grooved, headless pins; adaptor assemblies; filter extractors; de-coupler/disassembly wrenches; torque wrench adaptors; test benches; drills; screwdrivers; retract nut fixtures; clamp and baffle flappers; riveting anvils; alignment kits; crimp fixtures; assembly drill fixtures; carbide reamers; taper cutters; small wire brushes; bits; grooved pins; position stops; servo brackets; nameplates; turbojets; turbo-propellers; gas-turbine engines; stop mechanisms; internal gear hubs; linear hydraulic actuators; piston-spacer rings; electro-pneumatic outline actuators; engine air starters; actuator motor valves; piston-ring sets; pump assemblies; air-turbine pump systems; lubrication pump assemblies; turbine engine pumps; lube pump shafts; turbine stators; vacuum test equipment; fan assemblies; air compressors; cabinet fans; cooling packs; duct temperature limiters; environmental control units; split ducts; oil temperature regulators; outlet coolers; fuel heaters; oil cooler fans; filter assemblies; oil filter install kits; cartridge screens; filter housings; trim balance weights; fire bottles; water-spray nozzles; lift fixtures; inlet lifting slings; flight deck printers; laser drilling systems; grinding fixture set; machining tools; hydraulic presses; test equipment fixtures; turbine seal driver fixtures; hydraulic press/housing removal fixtures; bearing install tools; laptops; computer servers; computer systems; touch screens; disk drives; electronic flight-bag interface units; programmers; computer parts; dual-layer spinnerets; wet vacuum impregnation machines; translating nuts; piston housing assemblies; investment dies; cast die tooling; regulator valves; outline pressure regulator valves; outline check valves; safety valves; temperature control valves; switch interrupter assemblies; annular ball bearings; roller bearings; plain bearings, radial needle-roller bearings; sun-gear bearings; ball kits; bushings; butterfly shafts; planetary-gear bearings; turbine carriers; screw and nut ball bearings; ratchet shaft splines; spur-gear assemblies; shaft seals; nozzle gaskets; encased seals; actuator assembly motors; servo-drive assemblies; actuators; starter motors; rotary actuators; geared AC-motors; AC generators; brake assembly arms; power units, DV modulators; power supplies; transducers; interface cards; magnets; brake modules; solenoid assemblies; lithium batteries; ignition exciters; electric starters; igniters; aluminum castings; plasma arc welding machines and fixtures; electric furnace components ; heater plates; computer displays; encryption boxes; power supply assemblies; remote microphones; loudspeakers; amplifiers; cockpit voice recorders; diskettes; software CDs; memory cards; aircraft identification modules; video tapes; international receiver and decoder module assemblies; weather radar receivers and transmitters; radio altimeter receivers and transmitters; LCD monitors; VLF antennas; nuclear instrumentation modules; emergency locator transmitters with alarm; multi-function displays; CRT display units; circuit card assemblies; ceramic capacitors; capacitors; aluminum electrolytic capacitors; ceramic, surface-mounted capacitors; mica capacitors; resistors; fixed-film resistors; linear variable-resistor assemblies; variable-resistor assemblies; resistor assemblies; angular potentiometers; temperature sensors/resistors; printed circuit boards; switch assembly actuators; contacts; radio frequency filters; relays; switch assemblies; switches; light-board switches; electrical-connector receptacles; housings; control boxes; printed wiring boards; adapter switches; lamps; CRT assemblies; tube and bezel assemblies; magnetron tubes; diodes; microwave power transistors; transistors; semiconductor devices; light-emitting diodes; surface-mount semiconductors; oscillators; microcircuits; masks; IC switches; integrated-circuit heat sinks; signal generator test equipment; linear, dual transformers; printed board assemblies; coaxial cable; electrical wiring harnesses; strain-gage cable; test adaptors; fiber-optic couplers; electrodes; insulators; insulator sleeves; ceramic filters; transport carts; aircraft; brake rotor piston housings; pneumatic actuators; spacer retainers; computer interface cards; LCD glass; glass LCD covers; mach trim couplers; integrated computers; nozzle castings; ultrasound instruments; concave gauges; shim-checking gauges; gauge dials; test vehicles and machinery; chemise thermo-couplers; duct temperature sensors; calibration thermostats; liquid level gauges; air-flow sensor outlets; flow meters; air quality monitors; photometers; densitometers; reflectance standards; start counter meters; hand-held tachometers; oscilloscopes; multi-meters; light-wave multi-meters; bleed valves; signal generators and decoders; digital multi-meters; waveform analyzers; electrical test equipment holding fixtures; balance arbors; simulator test fixtures; optical protractors; borescope tube assemblies; piezoelectric accelerometers; bearing housings; body thermostats; controllers; generator control units; relief valves; time meters; metal engine stands; incandescent lamps; and, igniter leads (duty rate ranges from 0 to 15%).

Public comment is invited from interested parties. Submissions shall be addressed to the Board's Executive Secretary at the address below. The closing period for their receipt is June 24, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Christopher Kemp at Christopher.Kemp@trade.gov or (202) 482-0862.

Dated: May 6, 2013.
Andrew McGilvray,
Executive Secretary.

[FR Doc. 2013-11196 Filed 5-10-13; 8:45 am]

BILLING CODE 3510-DS-P